DEPARTMENT OF THE INTERIOR

Fish and Wildlife Service

Recovery Plan for the Tidewater Goby (Eucyclogobius newberryi)

AGENCY: Fish and Wildlife Service, Interior.

ACTION: Notice of document availability.

SUMMARY: We (the U.S. Fish and Wildlife Service) announce the availability of the Recovery Plan for the Tidewater Goby (Eucyclogobius newberryi). The tidewater goby is a small fish that inhabits coastal brackish water habitats entirely within California, ranging from Tillas Slough (mouth of the Smith River, Del Norte County) near the Oregon border south to Agua Hedionda Lagoon (northern San Diego County).

ADDRESSES: Printed copies of this recovery plan will be available in 4 to 6 weeks by request from the U.S. Fish and Wildlife Service, Ventura Fish and Wildlife Office, 2493 Portola Road, Suite B, Ventura, California 93003 (telephone: 805-644-1766). An electronic copy of the recovery plan is now available on the World Wide Web at http://pacific.fws.gov/ecoservices/endangered/recovery/plans.html and http://endangered.fws.gov/recovery/index.html#plans.

FOR FURTHER INFORMATION CONTACT: Chris Dellith, Fish and Wildlife Biologist, at the above Ventura address.

SUPPLEMENTARY INFORMATION:

Background

Restoring endangered or threatened animals and plants to the point where they are again secure, self-sustaining members of their ecosystems is a primary goal of the Endangered Species Act (ESA) and our endangered species program. The ESA (16 U.S.C. 1533(f)) requires the development of recovery plans for listed species unless such a plan would not promote the conservation of a particular species. Recovery plans help guide the recovery effort by describing actions considered necessary for the conservation of the species, establishing criteria for downlisting or delisting listed species, and estimating time and cost for implementing the measures needed for recovery (16 U.S.C. 1533(f)).

Section 4(f) of the ESA also requires that public notice, and an opportunity for public review and comment, be provided during recovery plan development. The Draft Recovery Plan for the Tidewater Goby was available for public comment from November 18, 2004, through January 18, 2005 (69 FR 67602). Information presented during the public comment period has been considered in the preparation of this final recovery plan, and is summarized in an appendix of the recovery plan. We will forward comments regarding recovery plan implementation to appropriate Federal or other entities so they can take these comments into account in the course of implementing recovery actions.

This recovery plan was developed by the Tidewater Goby Recovery Team. We coordinated with the California Department of Fish and Game and a team of stakeholders, which included landowners and managers, agency representatives, and non-government organizations.

The tidewater goby was listed as an endangered species on March 7, 1994 (59 FR 5494). The tidewater goby is threatened primarily by modification and loss of habitat as a result of coastal development, channelization of habitat, diversions of water flows, groundwater overdrafting, and alteration of water flows.

This recovery plan describes the status, current management, recovery objectives and criteria, and specific actions needed to provide a framework for the recovery of the tidewater goby so that protection by the ESA is no longer necessary. Actions needed to recover the tidewater goby include: (1) Monitor, protect, and enhance currently occupied tidewater goby habitat; (2) conduct biological research to enhance the ability to integrate land use practices with tidewater goby recovery and revise recovery tasks as pertinent new information becomes available; (3) evaluate and implement translocation where appropriate; and (4) increase public awareness about tidewater gobies.

Authority: The authority for this action is section 4(f) of the Endangered Species Act, 16 U.S.C. 1533(f).

Dated: December 8, 2005.
Ken McDermond,
Acting Manager, California/Nevada Operations Office, U.S. Fish and Wildlife Service.

[FR Doc. E6-696 Filed 1-20-06; 8:45 am]

BILLING CODE 4310-55-P